DEPARTMENT OF TRANSPORTATION

Federal Aviation Administration

14 CFR Part 39

[Docket No. FAA-2015-2714; Directorate Identifier 2014-SW-052-AD]

RIN 2120-AA64

Airworthiness Directives; Airbus Helicopters

AGENCY: Federal Aviation Administration (FAA), DOT.

ACTION: Notice of proposed rulemaking (NPRM).

SUMMARY: We propose to adopt a new airworthiness directive (AD) for Airbus Helicopters Model AS332C1, AS332L1, AS332L2, EC225LP, AS-365N2, AS 365 N3, EC 155B, and EC155B1 helicopters with an energy absorbing seat (seat). This proposed AD would require inspecting for the presence of labels that prohibit stowing anything under the seat. If a label is missing or not clearly visible to each occupant, installing a label would be required. This proposed AD is prompted by the discovery that required labels had not been systematically installed. The proposed actions are intended to prevent objects from being stowed under the seat as these objects could reduce the energy-absorbing function of the seat, resulting in injury to the seat occupants during an accident.

DATES: We must receive comments on this proposed AD by September 14, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, issued EASA AD No. 2014-0204, dated September 11, 2014, followed by a correction dated September 12, 2014, to correct an unsafe condition for Airbus Helicopters Model AS332C1, AS332L1, AS332L2, EC225LP, AS-365N2, AS 365 N3, EC 155B, and EC155B1 helicopters. EASA advises that during certification of an energy absorbing seat with a new part number, it was observed that the label that requires keeping the space under the seat free of any object was not systematically installed in a helicopter. EASA states that this condition, if not corrected, could prompt occupants to stow objects under an energy absorbing seat, which would reduce the effectiveness of the seat and the occupants' chance of surviving an accident. The EASA AD consequently requires a one-time inspection for the presence of labels and, if they are missing or unreadable, making and installing labels prohibiting the placing of an object under an energy absorbing seat.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

Airbus Helicopters issued Alert Service Bulletin (ASB) No. AS332-01.00.85 for Model AS332C1, AS332L1, AS332L2 helicopters; ASB No. AS365-01.00.66 for Model AS-365N2 and AS 365 N3 helicopters; ASB No. EC155-04A013 for EC 155B and EC155B1 helicopters; and ASB No. EC225-04A012 for Model EC225LP helicopters. All ASBs are Revision 0 and dated August 26, 2014. The ASBs state that during certification of an energy absorbing seat with a new part number, it was observed that the label, which indicates that the space under the seats must remain free of objects, was not systematically installed. Objects stowed under these seats reduce the energy absorbing function and thus jeopardize the occupant's survival in the event of a crash, the ASBs state. Pending a definitive solution, Airbus Helicopters calls for affixing a label that states that nothing can be stored under the seats.

This service information is reasonably available because the interested parties have access to it through their normal course of business or by the means identified in the ADDRESSES section of this proposed AD.

Proposed AD Requirements

Within 110 hours time in service this proposed AD would require:

• For Model AS332C1, AS332L1, AS332L2, and EC225LP helicopters: Inspecting the cabin and cockpit for labels, placards, or markings that prohibit stowing anything under the seats. If a label, placard, or marking is not located in every required location or is not visible and legible to every occupant, before further flight, installing a placard.

• For Model AS-365N2, AS 365 N3, EC 155B, and EC155B1 helicopters: Inspecting each seat leg in the cabin and cockpit for labels, placards, or markings that prohibit stowing anything under the seats. If a label, placard, or marking does not exist on one leg of each seat or is not visible and legible, before further flight, installing a placard.

Costs of Compliance

We estimate that this proposed AD would affect 52 helicopters of U.S. Registry and that labor costs average $85 a work-hour. Based on these estimates, we expect that the inspection for the presence of a label would take a quarter work hour for a labor cost of about $21. The cost of parts and time for installing a label would be minimal, for a total cost of $21 per helicopter and $1,092 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive

(AD): Airbus Helicopters: Docket No. FAA-2015-2714; Directorate Identifier 2014-SW-052-AD.

(a) Applicability

This AD applies to Airbus Helicopters Model AS332C1, AS332L1, AS332L2, EC225LP, AS-365N2, AS 365 N3, EC 155B, and EC155B1 helicopters with an energy absorbing seat (seat) listed in Figure 1 to paragraph (a) of this AD, certificated in any category.

Figure 1 to Paragraph (a)
Seat manufacturer | Seat type | Generic part number
Fischer + Entwicklungen | H110 | 9606-( )-( )-( )
| H140 | 0520-( )-( )-( )
| H160 | 0718-( )-( )-( )-( )
| 185/410 | 9507-( )-( )-( )
| 236/406 | 9608-( )-( )-( )
SICMA Aero Seat or Zodiac Seats France | Sicma 192 | 192xx-xx-xx
| Sicma 159 | 1591718-xx 159110
Socea Sogerma | ST102 | 2510102-xx-xx
| ST107 | 2010107-xx-xx
| ST120 | 2520120-xx

Note 1 to Figure 1 to paragraph (a) of this AD: “xx” can be any two alphanumeric characters and “( )” can be any number of alphanumeric characters.

(b) Unsafe Condition

This AD defines the unsafe condition as an object stowed under an energy-absorbing seat. This condition could reduce the efficiency of the energy-absorbing function of the seat, resulting in injury to the seat occupants during an accident.

(c) Comments Due Date

We must receive comments by September 14, 2015.

(d) Compliance

You are responsible for performing each action required by this AD within the specified compliance time unless it has already been accomplished prior to that time.

(e) Required Actions

Within 110 hours time in service:

(1) For Model AS332C1, AS332L1, AS332L2, and EC225LP helicopters:

(i) Inspect the cabin and cockpit for labels, placards, or markings that prohibit stowing anything under the seats in the locations shown in the figure in the Appendix of Airbus Helicopters Alert Service Bulletin No. AS332-01.00.85 (ASB AS332-01.00.85) or No. EC225-04A012 (ASB EC225-04A012), both Revision 0 and dated August 26, 2014, as applicable for your model helicopter.

(ii) If a label, placard, or marking is not located in every location depicted in the figure in the Appendix or is not visible and legible to every occupant, before further flight, install a placard in accordance with the Accomplishment Instructions, paragraph 3.B., of ASB AS332-01.00.85 or ASB EC225-04A012, as applicable for your model helicopter.

(2) For Model AS-365N2, AS 365 N3, EC 155B, and EC155B1 helicopters:

(i) Inspect each seat leg in the cabin and cockpit for labels, placards, or markings that prohibit stowing anything under the seats.

(ii) If a label, placard, or marking does not exist on one leg of each seat or is not visible and legible, before further flight, install a placard in accordance with the Accomplishment Instructions, paragraph 3.B., and the Appendix of Airbus Helicopters Alert Service Bulletin No. AS365-01.00.66 or No. EC155-04A013, both Revision 0 and dated August 26, 2014, as applicable for your model helicopter.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2014-0204, dated September 11, 2014, and corrected September 12, 2014. You may view the EASA AD on the Internet at http://www.regulations.gov in Docket No. FAA-2015-2714.

(h) Subject

Joint Aircraft Service Component (JASC) Code: 1100, Placards and Markings.

Issued in Fort Worth, Texas, on July 2, 2015.
Lance T. Gant,
Acting Directorate Manager, Rotorcraft Directorate, Aircraft Certification Service.

[FR Doc. 2015-16940 Filed 7-13-15; 8:45 am]

BILLING CODE 4910-13-P